DEPARTMENT OF ENERGY

Federal Energy Regulatory Commission

Notice of Availability of the Draft Environmental Impact Statement for the Proposed Leach XPress Project and Rayne XPress Expansion Project

| Docket No.
Columbia Gas Transmission, LLC | CP15-514-000
Columbia Gulf Transmission, LLC | CP15-539-000

The staff of the Federal Energy Regulatory Commission (FERC or Commission) has prepared a draft environmental impact statement (EIS) for the Leach XPress and Rayne XPress Expansion Projects (Projects), proposed by Columbia Gas Transmission, LLC (Columbia Gas) and Columbia Gulf Transmission, LLC (Columbia Gulf), respectively, in the above-referenced dockets. Columbia Gas requests authorization to construct, operate, abandon in-place, replace, and operate certain natural gas pipeline facilities to transport about 1.5 million dekatherms of natural gas per day of firm transportation service to natural gas consumers served by the Columbia Gas pipeline systems. Columbia Gulf requests authorization to add new compression and provide about 621,000 dekatherms per day of firm transportation on Columbia Gulf's system.

The draft EIS assesses the potential environmental effects of the construction and operation of the Projects in accordance with the requirements of the National Environmental Policy Act (NEPA). The FERC staff concludes that approval of the Projects would result in limited adverse environmental impacts, with the exception of impacts on forested land; however, these impacts would be reduced to less than significant levels with the implementation of Columbia Gas' and Columbia Gulf's proposed mitigation and the additional measures recommended by staff in the draft EIS.

The U.S. Environmental Protection Agency, the U.S. Army Corps of Engineers, U.S. Fish and Wildlife Service, the Pennsylvania Department of Environmental Protection, the Pennsylvania Department of Conservation and Natural Resources, the Ohio Environmental Protection Agency, the West Virginia Department of Environmental Protection, the West Virginia Department of Natural Resources, and the Kentucky Department for Environmental Protection participated as cooperating agencies in the preparation of the EIS. Cooperating agencies have jurisdiction by law or special expertise with respect to resources potentially affected by the proposals and participate in the NEPA analysis. Although the cooperating agencies provided input to the conclusions and recommendations presented in the draft EIS, the agencies will present their own conclusions and recommendations in their respective Records of Decision for the Projects.

The draft EIS addresses the potential environmental effects of the construction and operation of the following facilities:

• 133 miles of new 30- and 36-inch-diameter natural gas pipeline, 27 miles of 36-inch-diameter looping pipeline ¹ in Pennsylvania (Greene County), Ohio (Fairfield, Hocking, Monroe, Morgan, Muskingum, Noble, Perry and Vinton Counties) and West Virginia (Marshall County), 28 miles of 20-inch-diameter pipeline to be abandoned in place in Ohio (Fairfield, Hocking, and Vinton Counties), three new compressor stations, three existing compressor station modifications, four new and one modified regulator stations, 13 pig launcher and receiver facilities,² nine mainline valves, and four odorization facilities proposed by Columbia Gas; and

¹ A pipeline loop is a segment of pipe constructed parallel to an existing pipeline to increase capacity.

² A pig is an internal tool that can be used to clean and dry a pipeline and/or to inspect it for damage or corrosion.

• the new Grayson Compressor Station in Carter County, Kentucky, the new Means Compressor Station in Menifee and Montgomery Counties, Kentucky, and modification of the existing Means Measurement and Regulation Station in Montgomery County, Kentucky proposed by Columbia Gulf.

The FERC staff mailed copies of the draft EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before June 13, 2016.

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the applicable project docket number (CP15-514-000 or CP15-539-000) with your submission: Nathaniel J. Davis, Sr., Deputy Secretary, Federal Energy Regulatory Commission, 888 First Street NE., Room 1A, Washington, DC 20426.

(4) In lieu of sending written or electronic comments, the Commission invites you to attend one of the public comment meetings its staff will conduct in the project area to receive comments on the draft EIS, scheduled as follows:

Date | Location
Wednesday, May 18, 2016 | Noble County Community Center, Noble County Fairgrounds, (Fairground Road), Caldwell, OH 43724, 740-509-8077.
Thursday, May 19, 2016 | Grand Vue Park (Banquet Hall), 250 Trail Drive, Moundsville, WV 26041, 304-845-9810.
Tuesday, May 24, 2016 | Lee's Banquet Haus, 580 Radio Lane, Logan, OH 43138, 740-603-7639.
Wednesday, May 25, 2016 | Oak Hill Elementary School, 401 East Evans Street, Oak Hill, OH 45656, 740-682-7096.
Thursday, May 26, 2016 | Huntington High School, 1 Highlander Way, Huntington, WV 25701, 304-528-6400.

We will begin our sign up of speakers at 5:30 p.m. The comments meetings will begin at 6:00 p.m. with a description of our environmental review process by Commission staff, after which speakers will be called. The meetings will end once all speakers have provided their comments or at 10:00 p.m., whichever comes first. The meetings will be recorded by a court reporter to ensure comments are accurately recorded. Transcripts will be entered into the formal record of the Commission proceeding.

Any person seeking to become a party to the proceeding must file a motion to intervene pursuant to Rule 214 of the Commission's Rules of Practice and Procedures (18 CFR Part 385.214).³ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

³ See the previous discussion on the methods for filing comments.

Questions?

Additional information about the project is available from the Commission's Office of External Affairs, at (866) 208-FERC, or on the FERC Web site (www.ferc.gov) using the eLibrary link. Click on the eLibrary link, click on “General Search,” and enter the docket number excluding the last three digits in the Docket Number field (i.e., CP15-514 or CP15-539). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: April 21, 2016.
Nathaniel J. Davis, Sr.,
Deputy Secretary.

[FR Doc. 2016-09824 Filed 4-26-16; 8:45 am]

BILLING CODE 6717-01-P